DEPARTMENT OF ENERGY

Federal Energy Regulatory Commission

[Docket Nos. EL13-30-000; QF03-76-003; QF03-80-003]

CAlifornians for Renewable Energy, Inc., Michael E. Boyd, Robert M. Sarvey v. California Public Utilities Commission, Pacific Gas and Electric Company, Contra Costa Generating Station LLC, for the Oakley Generating Station; Notice of Petition for Enforcement

Take notice that on December 27, 2012, pursuant to section 210(h)(2) of the Public Utility Regulatory Policies Act of 1978 (PURPA), CAlifornians for Renewable Energy, Inc.; Michael E. Boyd; and Robert M. Sarvey filed a petition requesting the Federal Energy Regulatory Commission (Commission) initiate an enforcement action against Pacific Gas and Electric Company (PG&E); and Contra Costa Generating Station LLC for the Oakley Generating Station.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 24, 2013.

Dated: December 31, 2012.
Nathaniel J. Davis, Sr.,
Deputy Secretary.

[FR Doc. 2013-00408 Filed 1-10-13; 8:45 am]

BILLING CODE 6717-01-P